ENVIRONMENTAL PROTECTION AGENCY

[FRL-9977-97-OW]

Notice of Availability of the Deepwater Horizon Oil Spill Louisiana Trustee Implementation Group Draft Supplemental Restoration Plan and Environmental Assessment for the Elmer's Island Access Project Modification

AGENCY: Environmental Protection Agency (EPA).

ACTION: Notice of availability; request for public comments.

SUMMARY: On December 20, 2017, the Environmental Protection Agency (EPA) published a Notice of Availability of the Deepwater Horizon Oil Spill Louisiana Trustee Implementation Group (Louisiana TIG) Draft Restoration Plan and Environmental Assessment #2: Provide and Enhance Recreational Opportunities (Draft RP/EA #2) and requested comments from the public. In response to the public comments received on the Elmer's Island Access project proposed in the Draft RP/EA #2, the Louisiana TIG is proposing a modification to the original Elmer's Island Access project feature. In accordance with the Oil Pollution Act of 1990 (OPA) and the National Environmental Policy Act (NEPA), the Federal and State natural resource trustee agencies for the Louisiana TIG prepared a Draft Supplemental Restoration Plan and Environmental Assessment for the Elmer's Island Access Project Modification (Draft Supplemental RP/EA). The Draft Supplemental RP/EA evaluates the proposed change to the Elmer's Island Access project and alternatives considered by the Louisiana TIG under criteria set forth in the OPA natural resource damage assessment (NRDA) regulations, and evaluates their environmental effects in accordance with NEPA. The proposed modification to the Elmer's Island Access project is consistent with the restoration alternatives selected in the Deepwater Horizon oil spill Final Programmatic Damage Assessment and Restoration Plan/Programmatic Environmental Impact Statement (PDARP/PEIS). The purpose of this notice is to inform the public of the availability of the Draft Supplemental RP/EA and to seek public comments on the document.

DATES: The Louisiana TIG will consider public comments received on or before June 20, 2018.

Public Meeting: The Louisiana TIG will also take verbal comments at a public meeting that will be held at the Tulane River and Coastal Center on May 22, 2018; Open House 5:30 p.m., Meeting 6:00 p.m.; 1370 Port of New Orleans Place, New Orleans, LA 70130.

ADDRESSES: Obtaining Documents: You may download the Draft Supplemental RP/EA at any of the following sites:

• http://www.gulfspillrestoration.noaa.gov.

• http://www.la-dwh.com.

Alternatively, you may request a CD of the Draft Supplemental RP/EA (see FOR FURTHER INFORMATION CONTACT). You may also view the document at any of the public facilities listed at http://www.gulfspillrestoration.noaa.gov.

Submitting Comments: You may submit comments on the Draft Supplemental RP/EA by one of the following methods:

• Via the Web: http://www.gulfspillrestoration.noaa.gov/restoration-areas/louisiana.

• Via U.S. Mail: U.S. Fish and Wildlife Service, P.O. Box 49567, Atlanta, GA 30345.

• In Person: Verbal comments may be provided at the public meeting on May 22, 2018.

Once submitted, comments cannot be edited or withdrawn. The Louisiana TIG may publish any comment received on the document. Do not submit electronically any information you consider to be Confidential Business Information (CBI) or other information whose disclosure is restricted by statute. Multimedia submissions (audio, video, etc.) must be accompanied by a written comment. The written comment is considered the official comment and should include discussion of all points you wish to make. The Louisiana TIG will generally not consider comments or comment contents located outside of the primary submission (i.e. on the web, cloud, or other file sharing system). Please be aware that your entire comment, including your personal identifying information, will become part of the public record. Please note that mailed comments must be postmarked on or before the comment deadline of 30 days following publication of this notice to be considered.

FOR FURTHER INFORMATION CONTACT:

• Louisiana—Joann Hicks, 225-342-5477.

• EPA—Tim Landers, 202-566-2231.

SUPPLEMENTARY INFORMATION:

Introduction

On April 20, 2010, the mobile offshore drilling unit Deepwater Horizon, which was being used to drill a well for BP Exploration and Production, Inc. (BP), in the Macondo prospect (Mississippi Canyon 252-MC252), experienced a significant explosion, fire, and subsequent sinking in the Gulf of Mexico, resulting in an unprecedented volume of oil and other discharges from the rig and from the wellhead on the seabed. The Deepwater Horizon oil spill is the largest off shore oil spill in U.S. history, discharging millions of barrels of oil over a period of 87 days.

The Trustees conducted the natural resource damage assessment for the Deepwater Horizon oil spill under the Oil Pollution Act of 1990 (33 U.S.C. 2701 et seq.). Under OPA, Federal and State agencies act as trustees on behalf of the public to assess natural resource injuries and losses and to determine the actions required to compensate the public for those injuries and losses. OPA further instructs the designated trustees to develop and implement a plan for the restoration, rehabilitation, replacement, or acquisition of the equivalent of the injured natural resources under their trusteeship, including the loss of use and services from those resources from the time of injury until the time restoration to baseline (the resource quality and conditions that would exist if the spill had not occurred) is complete.

The Deepwater Horizon oil spill Trustees are:

• U.S. Environmental Protection Agency (EPA);

• U.S. Department of the Interior (DOI), as represented by the National Park Service,

U.S. Fish and Wildlife Service, and Bureau of Land Management;

• National Oceanic and Atmospheric Administration (NOAA), on behalf of the U.S. Department of Commerce;

• U.S. Department of Agriculture (USDA);

• State of Louisiana Coastal Protection and Restoration Authority (CPRA), Oil Spill Coordinator's Office (LOSCO), Department of Environmental Quality (LDEQ), Department of Wildlife and Fisheries (LDWF), and Department of Natural Resources (LDNR);

• State of Mississippi Department of Environmental Quality;

• State of Alabama Department of Conservation and Natural Resources and Geological Survey of Alabama;

• State of Florida Department of Environmental Protection and Fish and Wildlife Conservation Commission; and

• State of Texas Parks and Wildlife Department, General Land Office, and Commission on Environmental Quality.

On April 4, 2016, the Trustees reached and finalized a settlement of their natural resource damage claims with BP in a Consent Decree approved by the United States District Court for the Eastern District of Louisiana. Pursuant to that Consent Decree, restoration projects in the Louisiana Restoration Area are now chosen and managed by the Louisiana TIG. The Louisiana TIG is composed of the following Trustees: CPRA, LOSCO, LDEQ, LDWF, LDNR, EPA, DOI, NOAA, USDA.

Background

In the December 2017 Draft RP/EA #2, the Louisiana TIG presented to the public its plan for providing partial compensation for recreational use services lost as a result of the Deepwater Horizon oil spill. The public comment period for the Draft RP/EA #2 began on December 20, 2017, and closed on February 2, 2018. The Louisiana TIG hosted a public meeting on January 24, 2018, in New Orleans. The Draft RP/EA #2 proposed four restoration projects, evaluated in accordance with OPA and NEPA, including the Elmer's Island Access project. As proposed, the Elmer's Island Access project would enhance recreational opportunities within the Elmer's Island Refuge by incorporating a suite of features to improve upon existing access points, enhance the natural features of the area through reconnected hydrology, and develop a solution for improved access for recreational fishing activities targeting the eastern portion of Elmer's Island adjacent to Caminada Pass. In response to the public comments received on the Elmer's Island Access project proposed in the Draft RP/EA #2, the Louisiana TIG is proposing a modification to the original project feature. This modification would eliminate the proposed boardwalk and associated small boat launch and parking area at Elmer's Island, and provide a beach shuttle service that would allow improved public access to Caminada Pass, the most popular location for recreational fishing on Elmer's Island. The Louisiana TIG has prepared the Draft Supplemental RP/EA to inform the public about the proposed modification to the Elmer's Island Access project and to seek public comment.

Next Steps

The public is encouraged to review and comment on the Draft Supplemental RP/EA. A public meeting is scheduled to also help facilitate the public review and comment process. Comments provided on the Draft Supplemental RP/EA will be considered along with comments previously received on the Draft RP/EA #2. A summary of comments received on the Draft Supplemental RP/EA and the Draft RP/EA #2 and the Louisiana TIG's responses, where applicable, will be included in the Final Restoration Plan/Environmental Assessment #2: Provide and Enhance Recreational Opportunities (Final RP/EA #2). Public comments on the Draft Supplemental RP/EA will inform the Louisiana TIG's decision on whether to select the Elmer's Island Access project, as modified, in the Final RP/EA #2.

Administrative Record

The documents comprising the Administrative Record for the Draft Supplemental RP/EA can be viewed electronically at http://www.doi.gov/deepwaterhorizon/administrativerecord.

Authority

The authority for this action is the Oil Pollution Act of 1990 (33 U.S.C. 2701 et seq.), its implementing NRDA regulations found at 15 CFR part 990, and NEPA (42 U.S.C. 4321 et seq.).

Dated: May 3, 2018.
Benita Best-Wong,
Acting Principal Deputy Assistant Administrator, Office of Water.

[FR Doc. 2018-10112 Filed 5-18-18; 8:45 am]

BILLING CODE 6560-50-P